DEPARTMENT OF HEALTH AND HUMAN SERVICES

Agency for Healthcare Research and Quality; Notice of Meetings

AGENCY: Agency for Healthcare Research and Quality (AHRQ), HHS.

ACTION: Notice of five AHRQ subcommittee meetings.

SUMMARY: The subcommittees listed below are part of AHRQ's Health Services Research Initial Review Group Committee. Grant applications are to be reviewed and discussed at these meetings. Each subcommittee meeting will commence in open session before closing to the public for the duration of the meeting. These meetings will be closed to the public in accordance with 5 U.S.C. App. 2 section 10(d), 5 U.S.C. 552b(c)(4), and 5 U.S.C. 552b(c)(6).

DATES: See below for dates of meetings:

1. Health Care Research and Training (HCRT)

Date: May 25-26, 2017 (Open from 8:00 a.m. to 8:30 a.m. on May 25 and closed for remainder of the meeting)

2. Healthcare Information Technology Research (HITR)

Date: June 7-9, 2017 (Open from 6:00 p.m. to 6:30 p.m. on June 7 and closed for remainder of the meeting)

3. Health System and Value Research (HSVR)

Date: June 14-15, 2017 (Open from 8:30 a.m. to 9:00 a.m. on June 14 and closed for remainder of the meeting)

4. Healthcare Effectiveness and Outcomes Research (HEOR)

Date: June 14-15, 2017 (Open from 8:30 a.m. to 9:00 a.m. on June 14 and closed for remainder of the meeting)

5. Healthcare Safety and Quality Improvement Research (HSQR)

Date: June 22-23, 2017 (Open from 8:00 a.m. to 8:30 a.m. on June 22 and closed for remainder of the meeting)

ADDRESSES: (Below specifics where each hotel will be held)

Gaithersburg Marriott, 9751 Washingtonian Blvd., Gaithersburg, Maryland 20878.

FOR FURTHER INFORMATION CONTACT: (To obtain a roster of members, agenda or minutes of the non-confidential portions of the meetings.)

Mrs. Bonnie Campbell, Committee Management Officer, Office of Extramural Research Education and Priority Populations, Agency for Healthcare Research and Quality (AHRQ), 5600 Fishers Lane, Rockville, Maryland 20857, Telephone (301) 427-1554.

SUPPLEMENTARY INFORMATION:

In accordance with section 10 (a)(2) of the Federal Advisory Committee Act (5 U.S.C. App. 2), AHRQ announces meetings of the above-listed scientific peer review groups, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6) The grant applications and the discussions could disclose confidential trade secrets or commercial property such as patentable material, and personal information concerning individuals associated with the grant applications, the disclosure of which would constitute a clearly unwarranted invasion of personal privacy.

Agenda items for these meetings are subject to change as priorities dictate.

Sharon B. Arnold,
Acting Director.

[FR Doc. 2017-09130 Filed 5-4-17; 8:45 am]

BILLING CODE 4160-90-P